FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Comission and the Assistant Attorney General for the Antitrust Division of the Department of Justice. Neither agency intends to take any action with respect to these proposed acquisitions during the applicable waiting period.

Trans No. | Acquiring | Acquired | Entities
Transactions Granted Early Termination—08/05
20081512 | TCV V, L.P | RiskMetrics Group, Inc. | RiskMetrics Group, Inc.
Transactions Granted Early Termination—08/06/2008
20081498 | Entegris, Inc | Cowen Investments Holding, LLC | Poco Graphite Holdings, LLC Poco Graphite, Inc.; Poco Graphite International; Poco Graphite, SARL.
20081524 | Inergy, L.P | Demetree Salt Holdings, LLC | U.S. Salt, LLC.
Transactions Granted Early Termination—08/06/2008
20081536 | Ashland Inc | Hercules Incorporated | Hercules Incorporated.
20081557 | AEA Investors 2006 Fund VI, L.P | Quad-C Partners L.P | Behavioral Holding Corp.
20081559 | Cross Country Healthcare, Inc | MDA Holdings, Inc | Allied Health Group, Inc.; Credent Verification and Licensing Services, Inc.; Jamestown Indemnity, Ltd.; Medical Doctor Associates, Inc.
20081560 | Microsoft Corporation | DATAllegro, Inc | DATAllegro, Inc.
20081564 | Blackstone RGIS Capital Partners V L.P | Ronald 0. Perelman | Allied Security Holdings LLC.
20081570 | Convergys Corporation | Intervoice, Inc | Intervoice, Inc.
20081579 | CVT Holding S.A.S | Financiere Cover team SAS | Financiere Coverteam SAS.
Transactions Granted Early Termination—08/10/2008
19882164 | Anacomp, Inc | Xidex Corporation | Xidex Corporation.
Transactions Granted Early Termination—08/12/2008
20081398 | Smith International, Inc | W-H Energy Services, Inc | W-H Energy Services, Inc.
20081525 | American Seafoods L.P | Yardarm Knot, Inc | Highland Light Seafoods, LLC; Tracy Anne, Inc.
Transactions Granted Early Termination—08/13/2008
20071584 | Sun Pharmaceutical Industries Ltd | Taro Pharmaceutical Industries Ltd | Taro Pharmaceutical Industries Ltd.
20081529 | David and Sherry Gold | 99 cents Only Stores | 99 cents Only Stores.
20081563 | Nam Jung Kim | Del Monte Foods Company | Del Monte Foods Company; Galapesca, S.A.; Marine Trading Pacific, Inc.; Panapesca Fishing, Inc.; Star-Kist Samoa, Inc.
20081568 | Motorola, Inc | Jay Chaudhry | AirDefense, Inc.
20081577 | DeVry Inc | U.S. Education Corporation | U.S. Education Corporation.
Transactions Granted Early Termination—08/14/2008
20081585 | Tilman J | Fertitta Landry's Restaurants, Inc | Landry's Restaurants, Inc.
Transactions Granted Early Termination—08/15/2008
20081532 | Nycomed S.C.A. SICAR | Immunomedics, Inc | Immunomedics, Inc.
20081571 | David Gelbaum and Monica Chavez Gelbaum | GridPoint, Inc | GridPoint, Inc.
20081593 | International Business Machines Corporation | ILOG S.A | ILOG S.A.
20081595 | Bay Harbour Holdings, LLC | S&B Industries Inc. (debtor-in-possession | S&B Industries Inc. (debtor-in-possession).
20081598 | Michel Reybier | Chateau Montelena (FNA Montelena Associates) | Chateau Montelena (FNA Montelena Associates).
20081600 | Macquarie Global Partnership V Opportunities Partners, L.P | Marathon Fund Limited | Petermann Holding Co.
20081601 | TowerCo II Holdings LLC | Sprint Nextel Corporation | Sprint Nextel Corporation.
20081609 | 4116372 Canada Inc | American Greetings Corporation | American Greetings Corporation.
20081612 | Alcatel Lucent | Motive, Inc | Motive, Inc.
20081614 | CHS Private Equity V LP | Web Service Company, Inc | Web Service Company, LLC.
Transactions Granted Early Termination—08/18/2008
20081599 | Iberdrola, S.A | Energy East Corporation | Energy East Corporation.
20081606 | Quadrangle (AIV) Capital Partners II LP | Stephen E. Myers | Smart City Information Services, LLC OFL LLC); Smart City/mpiNET, LLC (FL LLC); Smart City Solutions, LLC (FL LLC); Smart City Telecommunications LLC (Del. LLC); Smart City Television LLC (Del. LLC).
Transactions Granted Early Termination—08/19/2008
20081608 | Time Warner Inc | Ripplewood Partners II, LP | QSP, Inc.
Transactions Granted Early Termination—08/20/2008
20081517 | MetLife Inc | First Horizon National Corporation | First Horizon National Corporation.
20081527 | ABB Ltd | KEC Acquisition Corporation | KEC Acquisition Corporation.
20081607 | Kenneth J, Feld | Live Nation, Inc | Live Nation Motor Sports, Inc.
Transactions Granted Early Termination—08/21/2008
20081544 | Commercial Metals Company Reinforcing-Tensioning Services, Inc | Alfredo Bubion | Bubion Investment Co. Regional Steel Corporation; RPS Cable Corporation; The Dawn Lizabeth Bubion 2003 Trust; The Debbie Ann Martinez 2003 Trust.
20081594 | Charlesbank Equity Fund VI, Limited Partnership | Cardinal Health, Inc. | Tecomet Inc. (“Tecomet”).
Transactions Granted Early Termination—08/22/2008
20081554 | Cleveland Cliffs Inc | Alpha Natural Resources, Inc | Alpha Natural Resources, Inc.
20081574 | Ametek, Inc | Xantrex Technology Inc | Elgar Holdings, Inc.
20081586 | Schneider Electric SA | Xantrex Technology, Inc | Xantrex Technology Inc.
Transactions Granted Early Termination—08/25/2008
20081589 | Pershing Square, L.P | Longs Drug Stores Corporation | Longs Drug Stores Corporation.
20081620 | Markit Group Holdings Limited | JPMorgan Chase & Co | J.P. Morgan FCS Corp.
20081623 | Temasek Capital (Private) Limited | Merrill Lynch & Co., Inc | Merrill Lynch & Co., Inc.
20081629 | Covance Inc | Eli Lilly and Company | Eli Lilly and Company.
20081633 | LLR Equity Partners III, L.P | SunTrust Banks, Inc | TransPlatinum Service Corp.
20081634 | The Walt Disney Company | The Active Network, Inc | The Active Network, Inc.
20081642 | Gannett Co., Inc | CareerBuilder, LLC | CareerBuilder, LLC.
20081645 | Deutsche Telekom AG | NextWave Wireless, Inc | AWS Wireless Inc.
20081651 | Diamond Foods, Inc | General Mills, Inc | General Mills, Inc.
Transactions Granted Early Termination—08/26/2008
20081562 | JV Holdings | Spitzer Holding Company | Spitzer Industries LLC.
20081617 | Georg F.W | Continental AG Schaeffler | Continental AG.
20081625 | Arlington Tankers Ltd | General Maritime Corporation | General Maritime Corporation.
20081626 | General Maritime Corporation | Arlington Tankers Ltd | Arlington Tankers Ltd.
20081631 | Peter C. Georgiopoulos | Galileo Holding Corporation | Galileo Holding Corporation.
20081638 | PTT Chemical Public Company Limited | Cognis Holding Luxembourg S.a.r.l | Cognis Olechemicals (M) Sdn. Bhd.
20081639 | PTT Chemical Public Company Limited | Permodalan Nasional Berhad | Cognis Olechemicals (M) Sdn. Bhd.
Transactions Granted Early Termination—08/27/2008
20081436 | Finmeccanica-Societa' per azioni | DRS Technologies, Inc | DRS Technologies, Inc.
Transactions Granted Early Termination—08/28/2008
20081622 | Ameriprise Financial, Inc | William C. Morris | J.& W. Seligman & Co. Incorporated.
20081628 | Macquarie Global Opportunities Partners, L.P | Sentient Jet Holdings, LLC | AvBuy, LLC; PNFS, LLC; Private Jets, Inc.; Sentient Flight Group, Inc.; Sentient Jet, Inc.
Transactions Granted Early Termination—08/29/2008
20081489 | Else Kroner-Fresenius-Stiftung | Dr. Patrick Soon-Shiong, M.D | APP Pharmaceuticals, Inc.
20081597 | Johnson & Johnson | Amgen Inc | Amgen Inc.
20081653 | Assurant, Inc | Trident II, L.P | Trident Signal Holdings, Inc.

For Further Information Contact: Sandra M. Peay, Contact Representative, or Renee Hallman, Contact Representative, Federal Trade Commission, Premerger Notification Office, Bureau Of Competition, Room H-303, Washington, DC 20580, (202) 326-3100.

By Direction of the Commission.
Donald S. Clark,
Secretary.

[FR Doc. E8-21466 Filed 9-16-08; 8:45 am]

BILLING CODE 6750-01-M